DEPARTMENT OF AGRICULTURE

Forest Service

Del Norte County Resource Advisory Committee

AGENCY: Forest Service, USDA.

ACTION: Notice of meeting.

SUMMARY: The Del Norte County Resource Advisory Committee (RAC) will meet on July 2, 2002 in Crescent City, California. The purpose of the meeting is to discuss the selection of Title II projects under Public Law 106-393, H.R. 2389, the Secure Rural Schools and Community Self-Determination Act of 2000, also called the “Payments to States” Act.

DATES: The meeting will be held on July 4, 2002 from 6 to 8:30 p.m.

ADDRESSES: The meeting will be held at the Elk Valley Rancheria Community Center, 2298 Norris Avenue, Suite B, Crescent City, California.

FOR FURTHER INFORMATION CONTACT: Laura Chapman, Committee Coordinator, USDA, Six Rivers National Forest, 1330 Bayshore Way, Eureka, CA 95501. Phone: (707) 441-3549. Email: lchapman@fs.fed.us.

SUPPLEMENTARY INFORMATION: This will be the eighth meeting of the committee. Agenda items include brief presentations of public Title II project proposals, and a ranking of project proposals by the RAC. The meeting is open to the public. Public input opportunity will be provided and individuals will have the opportunity to address the committee at that time.

Dated: June 5, 2002.
Bud Zangger,
Acting Forest Supervisor.

[FR Doc. 02-14724 Filed 6-11-02; 8:45 am]

BILLING CODE 3410-11-M